DEPARTMENT OF HOMELAND SECURITY

Office of the Secretary

Published Privacy Impact Assessments on the Web

AGENCY: Privacy Office, DHS.

ACTION: Notice of Publication of Privacy Impact Assessments.

SUMMARY: The Privacy Office of the Department of Homeland Security (DHS) is making available eighteen (18) Privacy Impact Assessments on various programs and systems in the Department. These assessments were approved and published on the Privacy Office's Web site between July 1 and September 30, 2008.

DATES: The Privacy Impact Assessments will be available on the DHS Web site until January 30, 2009, after which they may be obtained by contacting the DHS Privacy Office (contact information below).

FOR FURTHER INFORMATION CONTACT: Hugo Teufel III, Chief Privacy Officer, Department of Homeland Security, Mail Stop 0550, Washington, DC 20528, or e-mail: pia@dhs.gov.

SUPPLEMENTARY INFORMATION: Between July 1 and September 30, 2008, the Chief Privacy Officer of the Department of Homeland Security (DHS) approved and published eighteen (18) Privacy Impact Assessments (PIAs) on the DHS Privacy Office Web site, http://www.dhs.gov/privacy, under the link for “Privacy Impact Assessments.” These PIAs cover eighteen (18) separate DHS programs. Below is a short summary of those programs, indicating the DHS component responsible for the system, and the date on which the PIA was approved. Additional information can be found on the Web site or by contacting the Privacy Office.

System: United States Visitor and Immigrant Status Indicator Technology Program/Department of Homeland Security and the United Kingdom Border Agency's International Group Visa Services Project.

Component: US-VISIT.

Date of approval: July 1, 2008.

DHS provides the United Kingdom Border Agency's (UKBA) International Group Visa Services (formerly known as UKvisas) with additional information to determine whether visa applicants for entry into the United Kingdom are eligible to obtain a visa or other travel documents according to applicable United Kingdom laws. Accordingly, the United States Visitor and Immigrant Status Indicator Technology (US VISIT) Program will receive biometric and biographic information from UKBA International Group Visa Services about applicants for visas to the United Kingdom and will query those applicants' biometric information against the Automated Biometric Identification System's (IDENT) list of subjects of interest (e.g., “Subjects of interest” are people of interest to the U.S. or international law enforcement and/or intelligence agencies because of suspected or confirmed illegal activity). US-VISIT provides UKBA with results from the query, along with, in some cases, details of the analysis supporting the returned results. US-VISIT published this PIA because US-VISIT will receive and share personally identifiable information (PII) with the UKBA.

System: Procedures for Processing Travel Documents at the Border.

Component: Customs and Border Protection.

Date of approval: July 2, 2008.

U.S. Customs and Border Protection (CBP), published this PIA to give notice of its procedures for recording certain border crossing information and validating the travel documents provided by individuals at air, land, and sea ports of entry who are admitted or paroled into the United States. CBP maintains information regarding persons who are admitted or paroled into the United States, and where applicable exit the United States in accordance with the Privacy Act system of records notices for the Border Crossing Information (BCI) and for the Treasury Enforcement Communications System (TECS), which is being revised and will be republished in the future as TECS (no longer an acronym).

As part of processing travelers at the border, CBP accepts different types of documents for purposes of establishing the identity, citizenship, and admissibility of travelers seeking to enter the United States. CBP populates BCI with certain information provided by or on behalf of persons who are admitted, paroled into, or depart the U.S. In addition the information maintained by BCI regarding such persons may be derived from different DHS systems of records, Department of State systems of records, and the systems of other governmental or tribal authorities (including foreign governments). CBP uses this information to validate the travel documentation provided by or on behalf of the individual, make determinations regarding an individual's admissibility, and ensure compliance with all other U.S. laws enforced by CBP at the border.

This PIA explains the information technology and the information flow between BCI, TECS, and other Privacy Act system of records, including the Non-Federal Entity Data System.

System: Operations Center Incident Management System.

Component: Transportation Security Administration.

Date of approval: July 7, 2008.

Under the Aviation and Transportation Security Act (ATSA), the Transportation Security Administration (TSA) has “responsibility for security in all modes of transportation.” TSA uses an operations center incident management system called WebEOC to perform incident management, coordination, and situation awareness functions for all modes of transportation. The system stores information that it receives about the following categories of individuals: (1) Individuals who violate, or are suspected of violating transportation security laws, regulations, policies or procedures; (2) individuals whose behavior or suspicious activity resulted in referrals by Ticket Document Checkers (TDC) to Behavior Detection Officer (BDO) or Law Enforcement Officer (LEO) interview (primarily at airports); or (3) individuals whose identity must be verified, or checked against Federal watch lists. Individuals whose identity must be verified includes both those individuals who fail to show acceptable identification documents to compare to boarding documents and law enforcement officials seeking to fly armed. The system also collects and compiles reports from Federal, state, local, tribal, or private sector security officials related to incidents that may pose a threat to transportation or national security. Daily reports will be provided to executives at TSA and DHS to assist in incident and operational response management.

System: RealEyes Project.

Component: Science & Technology.

Date of approval: July 21, 2008.

RealEyes is a research and development project in the DHS Science & Technology Directorate (S&T) that seeks to test the operational effectiveness and efficiency of streaming video for first responders and law enforcement applications. RealEyes is a prototype software system that would allow first responders and law enforcement officials equipped with Personal Digital Assistants (PDAs) to send and receive live video and geospatial coordinates, view video from fixed or mobile cameras, and receive data (video, photos and text) from a field command post using basic cellular technology. S&T conducted a PIA because a planned phase of technology testing may involve incidentally capturing images of individuals who are not volunteer participants in the research effort. This PIA covers only the activities conducted during the testing phase of the RealEyes project. If the RealEyes technology is deployed into operational use, the DHS Component implementing the technology will be responsible for completing any subsequent privacy assessments of the RealEyes technology and its use.

System: Standoff Explosives Detective Technology Demonstration Program.

Component: Science & Technology.

Date of approval: July 21, 2008.

DHS S&T initiated the Standoff Explosives Detection Technology Demonstration Program (SOTDP) in March 2007. This is a multi-year research and development (R&D) program (through 2013) designed to accelerate the development of explosive countermeasures-standoff technologies, concept of operations, and training to prevent explosive attacks at large public events such as conventions, concerts, sporting events, public celebrations, etc. The purpose of this program is to develop an integrated system of devices to improve security and public safety, while not impacting pedestrian traffic flow or violating personal freedoms and individual privacy. DHS S&T is sponsoring the SOTDP and associated demonstrations in a multi-year R&D initiative. S&T has a program management and oversight role in the project, which includes providing policy direction and input on program requirements. This PIA is being conducted because PII will be collected during the R&D process.

System: First Responder Training System.

Component: Federal Emergency Management Agency.

Date of approval: July 16, 2008.

Federal Emergency Management Agency (FEMA) developed the First Responder Training System (FRTS), FirstResponderTraining.gov. FRTS serves as a central access point to validate, FEMA-approved Weapons of Mass Destruction training and information. FRTS is an internet-based tool used to guarantee the provision of critical training for First Responders. The purpose of this PIA is to ensure the privacy risks associated with the collection of PII are addressed for this new system.

System: Fraud Detection and National Security Data System.

Component: U.S. Citizenship and Immigration Services.

Date of approval: July 29, 2008.

The United States Citizenship and Immigration Services (USCIS) developed the Fraud Detection and National Security Data System (FDNS-DS), a case management system used to record, track, and manage immigration inquiries, investigative referrals, law enforcement requests, and case determinations involving benefit fraud, criminal activity, public safety and national security concerns. The FDNS-DS system is an upgrade of the Fraud Tracking System (FTS). The FTS PIA was published on June 24, 2005.

System: Screening of Passengers by Observation Techniques Program.

Component: Transportation Security Administration.

Date of approval: August 5, 2008.

The Screening of Passengers by Observation Techniques (SPOT) program is a behavior observation and analysis program designed to provide the TSA BDOs with a means of identifying persons who pose or may pose potential transportation security risks by focusing on behaviors indicative of high levels of stress, fear, or deception. The SPOT program is a derivative of other behavioral analysis programs that have been successfully employed by law enforcement and security personnel both in the U.S. and around the world.

System: Person Centric Query Service Supporting Immigration Status Verifiers of the USCIS National Security and Records Verification Directorate/Verification Division Update.

Component: U.S. Citizenship and Immigration Services.

Date of approval: August 13, 2008.

This is an update to the existing PIA for the USCIS Verification Division, Immigration Status Verifiers' use of the Person Centric Query Service (PCQS), operating through the USCIS Enterprise Service Bus to: (1) expand the PCQS person-search capability, and (2) describe the privacy impact of updating the PCQS by adding access to five additional systems to the PCQS query; ENFORCE Integrated Database, the Executive Office Immigration Review System, the Refugees, Asylum, and Parole System, the TECS Arrival/Departure Data Query, and the TECS Subject Lookout Search.

System: HR Solutions.

Component: Department-Wide.

Date of approval: August 12, 2008.

The Office of the Chief Human Capital Officer (OCHCO) operates the HR Solutions System. HR Solutions is a newly developed system designed to aid in the administration of the Human Capital Processing of human resources operations and services. OCHCO conducted this PIA because HR Solutions collects and maintains PII.

System: Secure Information Management Service Pilot with Inter-Country Adoptions Update.

Component: U.S. Citizenship and Immigration Services.

Date of approval: August 13, 2008.

USCIS published this update to the PIA for the Secure Information Management Service (SIMS). This update describes the electronic sharing of case management data with the Department of State (DoS) necessary to expedite and improve the processing of inter-country adoption cases. Specifically, the PII will be shared electronically with the DoS to maintain statistics related to inter-country adoption cases.

System: Customer Identity Verification Pilot.

Component: U.S. Citizenship and Immigration Services.

Date of approval: August 15, 2008.

USCIS prepared a PIA for the Customer Identity Verification (CIV) Pilot. The purpose of this pilot is to assess the viability of using fingerprint-based identity verification along with information from previous biometric encounters in the USCIS benefit adjudication process. USCIS will test this capability for a period of approximately four months in an operational environment consisting of four field offices. USCIS will use fingerprint scanners connected to the US-VISIT Program's IDENT to implement the CIV Pilot.

System: Bond Management Information System Web Version.

Component: Immigration and Customs Enforcement.

Date of approval: August 25, 2008.

The Bond Management Information System/Web Version (BMIS Web) is an immigration bond management database used primarily by the Office of Financial Management at U.S. Immigration and Customs Enforcement (ICE). The basic function of BMIS Web is to record and maintain for financial management purposes the immigration bonds that are posted for aliens involved in removal proceedings. ICE has conducted this PIA because the system collects PII.

System: Computer Linked Application Information Management System.

Component: U.S. Citizenship and Immigration Services.

Date of approval: September 5, 2008.

This PIA analyzes the Computer Linked Application Information Management System (CLAIMS) 4. CLAIMS 4 is a DHS USCIS system for processing Applications for Naturalization. USCIS conducted this PIA to document, analyze, and assess its current practices with respect to the PII it collects, uses, and shares; and to improve its ability to provide appropriate citizenship and immigration status information to users.

System: Benefits Processing of Applicants other than Petitions for Naturalization, Refugee Status, and Asylum.

Component: U.S. Citizenship and Immigration Services.

Date of approval: September 5, 2008.

USCIS receives and adjudicates applications for all United States immigration benefits. This PIA covers the USCIS systems associated with processing all immigration benefits except naturalization, asylum, and refugee status. These systems include the Computer Linked Adjudication Information Management System (CLAIMS 3), the Citizenship and Immigration Services Centralized Oracle Repository, the Interim Case Management System, Integrated Voice Response System, and the Integrated Card Production System. Other USCIS systems involved in the processing of benefits are covered by other PIAs.

System: Document Management and Records Tracking System.

Component: Federal Emergency Management Agency.

Date of approval: September 8, 2008.

Federal Emergency Management Agency (FEMA) developed the Document Management and Records Tracking System (DMARTS). DMARTS is an Enterprise Content Management system that collects PII from claimants to carry out its mission of assisting individuals who apply for disaster assistance benefits. DMARTS will move paper files to an electronic repository. This PIA examines the privacy implications to ensure that adequate privacy considerations and protections have been applied to this electronic framework.

System: Microfilm Digitization Application System.

Component: U.S. Citizenship and Immigration Services.

Date of approval: September 15, 2008.

USCIS Records Division maintains the Microfilm Digitization Application System (MiDAS), which houses 85 million electronic immigration-related records previously stored on microfilm. USCIS conducted this PIA to analyze the privacy impacts associated with the new release of MiDAS that will enable USCIS to (1) Electronically search and retrieve historical immigration-related records, (2) process Web-based requests for these records submitted by Federal, state, and local Government and Public Genealogy Customers, (3) provide case tracking capabilities for USCIS Records Division staff, and (4) provide these records to the law enforcement and intelligence communities.

System: Department of Homeland Security General Contact List.

Component: DHS-Wide.

Date of approval: July 23, 2008.

Many DHS operations and projects collect a minimal amount of contact information in order to distribute information and perform various other administrative tasks. Department Headquarters conducted this PIA because contact lists contain PII. The Department added the following systems to this PIA:

• Science and Technology Attendance Lists

• Science and Technology Private Sector Contact Lists

• Science and Technology Subject-Matter Expert Lists

• Science and Technology Media Contact List

• Transportation Security Administration Intermodal Security Training and Exercise Program (I-STEP) Exercise Information System (EXIS)

• Transportation Security Administration Travel Protocol Office Program

Hugo Teufel III,
Chief Privacy Officer.

[FR Doc. E8-28397 Filed 11-28-08; 8:45 am]

BILLING CODE 4410-10-P